DEPARTMENT OF COMMERCE

International Trade Administration

[A-201-837; A-570-954]

Certain Magnesia Carbon Bricks From Mexico and the People's Republic of China: Final Results of the Expedited Second Sunset Reviews of the Antidumping Duty Orders

AGENCY: Enforcement and Compliance, International Trade Administration, Department of Commerce.

SUMMARY: As a result of these expedited sunset reviews, the Department of Commerce (Commerce) finds that revocation of the antidumping duty (AD) orders on certain magnesia carbon bricks (MCBs) from Mexico and the People's Republic of China (China) would be likely to lead to the continuation or recurrence of dumping at the levels indicated in the “Final Results of Review” section of this notice.

DATES: Applicable May 10, 2021.

FOR FURTHER INFORMATION: Amaris Wade, AD/CVD Operations, Office II, Enforcement and Compliance, International Trade Administration, U.S. Department of Commerce, 1401 Constitution Avenue NW, Washington, DC 20230; telephone: (202) 482-3874.

SUPPLEMENTARY INFORMATION:

Background

On September 20, 2010, Commerce published the AD orders on MCBs from China and Mexico.¹ On January 4, 2021, Commerce published the notice of initiation of the second sunset reviews of the AD Orders, pursuant to section 751(c) of the Tariff Act of 1930, as amended (the Act).² In January 2021, Commerce received notices of intent to participate within the 15-day deadline specified in 19 CFR 351.218(d)(1)(i) from the Magnesia Carbon Bricks Fair Trade Committee (the Committee), an association comprised of three U.S. producers of MCBs: Resco Products, Inc.; Magnesita Refractories Company; and HarbisonWalker International, Inc.³ The Committee claimed interested party status under section 771(9)(E) of the Act, as each member of the Committee is a manufacturer of the domestic like product.

¹ See Certain Magnesia Carbon Bricks from Mexico and the People's Republic of China: Antidumping Duty Orders, 75 FR 57257 (September 20, 2010) (AD Orders).

² See Initiation of Five-Year (Sunset) Reviews, 86 FR 60 (January 4, 2021).

³ See Committee's Letter, “Domestic Industry's Notice of Intent To Participate In Sunset Review,” dated January 14, 2021; see also “Domestic Industry's Notice of Intent To Participate In Sunset Review,” dated January 14, 2021.

On February 2, 2021, Commerce received adequate substantive responses to the notice of initiation from the Committee within the 30-day deadline specified in 19 CFR 351.218(d)(3).⁴ We received no substantive response from respondent interested parties with respect to either of the orders covered by these sunset reviews.

⁴ See Committee's Letter, “Domestic Industry's Substantive Response,” dated February 2, 2021; see also Committee's Letter, “Domestic Industry's Substantive Response,” dated February 2, 2021.

On February 22, 2021, Commerce notified the U.S. International Trade Commission that it did not receive an adequate substantive response from respondent interested parties.⁵ As a result, pursuant to section 751(c)(3)(B) of the Act and 19 CFR 351.218(e)(1)(ii)(C)(2), Commerce conducted expedited (120-day) sunset reviews of the AD Orders.

⁵ See Commerce's Letter, “Sunset Reviews Initiated on January 4, 2021,” dated February 22, 2021.

Scope of the Orders

The scope of these orders includes certain chemically-bonded (resin or pitch), magnesia carbon bricks with a magnesia component of at least 70 percent magnesia (MgO) by weight, regardless of the source of raw materials for the MgO, with carbon levels ranging from trace amounts to 30 percent by weight, regardless of enhancements (for example, magnesia carbon bricks can be enhanced with coating, grinding, tar impregnation or coking, high temperature heat treatments, anti-slip treatments or metal casing) and regardless of whether or not antioxidants are present (for example, antioxidants can be added to the mix from trace amounts to 15 percent by weight as various metals, metal alloys, and metal carbides).

Certain magnesia carbon bricks that are the subject of these orders are currently classifiable under subheadings 6902.10.1000, 6902.10.5000, 6815.91.0000, 6815.99.2000 and 6815.99.4000 of the Harmonized Tariff Schedule of the United States (HTSUS). While HTSUS subheadings are provided for convenience and customs purposes, the written description is dispositive.

Analysis of Comments Received

All issues raised in these sunset reviews are addressed in the Issues and Decision Memorandum.⁶ The issues discussed in the Issues and Decision Memorandum are the likelihood of continuation or recurrence of dumping and the magnitude of the dumping margin likely to prevail if the orders were revoked. The Issues and Decision Memorandum is a public document and is on file electronically via Enforcement and Compliance's Antidumping and Countervailing Duty Centralized Electronic Service System (ACCESS). ACCESS is available to registered users at http://access.trade.gov. A list of topics discussed in the Issues and Decision Memorandum is included as an appendix to this notice. In addition, a complete version of the Issues and Decision Memorandum can be accessed directly on the internet at http://enforcement.trade.gov/frn.

⁶ See Memorandum, “Issues and Decision Memorandum for the Expedited Second Sunset Reviews of the Antidumping Duty Orders on Certain Magnesia Carbon Bricks from Mexico and the People's Republic of China,” dated concurrently with, and hereby adopted by, this notice (Issues and Decision Memorandum).

Final Results of Reviews

Pursuant to sections 751(c)(1) and 752(c)(1) and (3) of the Act, Commerce determines that revocation of the AD Orders would be likely to lead to the continuation or recurrence of dumping at weighted-average dumping margins up to 236 percent for China and up to 57.90 percent for Mexico.

Administrative Protective Order (APO)

This notice also serves as the only reminder to parties subject to an APO of their responsibility concerning the return or destruction of proprietary information disclosed under APO in accordance with 19 CFR 351.305. Timely notification of the return or destruction of APO materials or conversion to judicial protective orders is hereby requested. Failure to comply with the regulations and terms of an APO is a violation which is subject to sanction.

Notification to Interested Parties

We are issuing and publishing the final results and this notice in accordance with sections 751(c), 752(c), and 777(i)(1) of the Act, and 19 CFR 351.218.

Dated: May 3, 2021.
Christian Marsh,
Acting Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Dumping Margins Likely to Prevail

VII. Final Results of Sunset Reviews

VIII. Recommendation

[FR Doc. 2021-09801 Filed 5-7-21; 8:45 am]

BILLING CODE 3510-DS-P